DEPARTMENT OF LABOR

Employment and Training Administration

[TA-W-59,532]

Hardwick Knitted Fabrics, New York Sales Office, a Subdivision of Hardwick Knitted Fabrics, Inc., New York, NY; Dismissal of Application for Reconsideration

Pursuant to 29 CFR 90.18(C) an application for administrative reconsideration was filed with the Director of the Division of Trade Adjustment Assistance for workers at Hardwick Knitted Fabrics, New York Sales Office, a subdivision of Hardwick Knitted Fabrics, Inc., New York, New York. The application did not contain new information supporting a conclusion that the determination was erroneous, and also did not provide a justification for reconsideration of the determination that was based on either mistaken facts or a misinterpretation of facts or of the law. Therefore, dismissal of the application was issued.

TA-W-59,532; Hardwick Knitted Fabrics, New York Sales Office, a Subdivision of Hardwick Knitted Fabrics, Inc., New York, New York (July 27, 2006).

Signed at Washington, DC, this 31st day of July, 2006.
Richard Church,
Acting Director, Division of Trade Adjustment Assistance.

[FR Doc. E6-13090 Filed 8-9-06; 8:45 am]

BILLING CODE 4510-30-P